DEPARTMENT OF THE TREASURY

United States Customs Service

Extension of General Program Test for Transfer of International In-Transit Baggage

AGENCY: Customs Service, Department of the Treasury.

ACTION: General notice.

SUMMARY: This document announces that the test originally announced in the Federal Register on February 23, 2000, and modified by a notice published in the Federal Register on June 16, 2000, regarding the transfer of international in-transit baggage is being extended for an additional year. The time for applying to participate in the test also is being reopened for an additional six-month period.

DATES: The testing period is extended to August 16, 2002. Written applications to participate in the test must be filed with Customs on or before February 15, 2002.

ADDRESSES: Air carriers that have entered into an agreement with the Government by signing an Advance Passenger Information System (APIS) Memorandum of Understanding may apply to participate in the program test by submitting a letter of application to the port director with jurisdiction over the airport where the transfer of international in-transit baggage will occur. Air carriers that wish to participate in the test can apply to participate in the APIS program by contacting Mike Cronin, Acting Executive Associate Commissioner for the Office of Programs, U.S. Immigration & Naturalization Service, 425 I Street, NW., Washington, DC 20536.

FOR FURTHER INFORMATION CONTACT: For operational or policy matters: Carlene Warren, Passenger Programs Branch, Office of Field Operations (202) 927-1391.

For regulatory matters: Larry L. Burton, Office of Regulations and Rulings (202) 927-1287.

SUPPLEMENTARY INFORMATION:

Background

On February 23, 2000, Customs published a general notice in the Federal Register (65 FR 9054) announcing a program test that allows participating air carriers to more efficiently transfer accompanied air passenger baggage from one aircraft entering the United States to another aircraft departing from the United States enroute to a foreign destination. Under the test, participating air carriers will not be required to file an air cargo manifest (Customs Form 7509) but will instead electronically transmit certain required information to Customs while a flight is enroute to the United States.

The notice specified that the test covers accompanied, international, in-transit, checked baggage that arrives in the United States aboard one aircraft and departs from the United States aboard another aircraft. (This baggage is referred to as international-to-international baggage or ITI baggage.) The notice explained the air cargo manifest requirement and the ordinary ITI baggage processing procedure as provided for under the Customs Regulations; described the Advance Passenger Information System (APIS) program; set forth the eligibility requirements for participation in the test, the information transmission and baggage processing procedures required under the test, and the test application process; and requested comments on all aspects of the test.

On April 3, 2000, Customs published a general notice in the Federal Register (65 FR 17550) to announce an extension of the time period for applying to participate in the test. The application period was extended to May 26, 2000. On June 16, 2000, Customs published a notice in the Federal Register (65 FR 37828) to announce a modification of the test program based on a review of the comments received and a reevaluation of the test. That June 16, 2000, notice also provided for a new application period, to July 31, 2000, and stated that the modified program test would commence no earlier than August 15, 2000, and would run for approximately one year.

Customs has determined that the test as it is currently being conducted should be extended for an additional year and that the time for applying to participate in the test should be reopened for a new six-month period. Extending the test period and reopening the application process will enable Customs to more fully evaluate the results of the test and formulate proposals to amend the Customs Regulations, as may be appropriate, to adopt the procedures under the test on a more permanent basis.

Accordingly, the testing period is extended to August 16, 2002, and applications to participate in the test will be accepted by Customs through February 15, 2002. Customs notes that both the notice published on February 23, 2000, and the notice published on June 16, 2000, should be consulted for a fuller understanding of the various aspects of the program test, as the latter notice did not modify all aspects of the test. In addition, as the application process was modified in the notice of June 16, 2000, that notice should be consulted on how to apply for participation in the test.

Dated: August 21, 2001.
Bonni G. Tischler,
Assistant Commissioner, Office of Field Operations.

[FR Doc. 01-21514 Filed 8-24-01; 8:45 am]

BILLING CODE 4820-02-P